DEPARTMENT OF TRANSPORTATION

Federal Aviation Administration

Proposed Advisory Circular (AC) 120-SUR, Aircraft Surveillance Systems and Applications

AGENCY: Federal Aviation Administration (DOT).

ACTION: Notice of availability and request for public comment.

SUMMARY: This notice announces the availability of and requests comments on a proposed Advisory Circular (AC) 120-SUR, Aircraft Surveillance Systems and Applications. This proposed AC provides designers, manufacturers, installers and airplane operators, general information and acceptable method of compliance for the certification, airworthiness, and the operational approval of surveillance systems and associated applications.

DATES: Comments must be received on or before September 11, 2004.

ADDRESSES: Send all comments on the proposed AC to: Federal Aviation Administration (FAA), Aircraft Certification Service, Aircraft Engineering Division, Avionic Systems Branch, AIR-130, 800 Independence Avenue, SW., Washington, DC 20591. ATTN: Mr. Paul Lipski. Or deliver comments to: Federal Aviation Administration, Room 815, 800 Independence Avenue, SW., Washington, DC 20591.

FOR FURTHER INFORMATION CONTACT: Mr. Paul Lipski, AIR-130, Room 815, Federal Aviation Administration, Aircraft Certification Service, Aircraft Engineering Division, 800 Independence Avenue, SW., Washington, DC 20591. Telephone (202) 385-4557, FAX: (202) 385-4651, Or, via e-mail at: Paul.lipski@faa.gov

SUPPLEMENTARY INFORMATION:

Comments Invited

Interested persons are invited to comment on the proposed AC listed in this notice by submitting such written data, views, or arguments as they desire to the above specified address. Comments received on the proposed AC may be examined, before and after the comment closing date, in Room 815, FAA Headquarters Building, 800 Independence Avenue, SW., Washington, DC 20591, weekdays except Federal holidays, between 8:30 a.m. and 4:30 p.m. All communications received on or before the closing date will be considered by the Director of the Aircraft Certification Service before issuing the final Advisory Circular.

Background

The Federal Aviation Administration (FAA), in a continuing effort to improve the safety, efficiency, and capacity of the National Airspace System, has been working with industry to develop and demonstrate new surveillance technologies such as Automatic Dependent Surveillance—Broadcast (ADS-B) through such efforts as Safe Flight 21 program, the Capstone program (currently being used in Alaska), and other United States National Airspace System (NAS) programs. To assist the aviation community in obtaining FAA approval of related systems and equipment needed to support these services, the Flight Standards and Aircraft Certification Services developed the proposed AC.

How To Obtain Copies

You may get a copy of the proposed AC from the Internet at: http://www.airweb.faa.gov/rgl. Once on the RGL Web site, select “Advisory Circular”, then select the document by number. See section entitled for further information contact for the complete address if requesting a copy by mail.

Issued in Washington, DC, August 12, 2004.
Brian A. Yanez,
Acting Manager, Aircraft Engineering Division, Aircraft Certification Service.

[FR Doc. 04-18819 Filed 8-16-04; 8:45 am]

BILLING CODE 4910-13-M